DEPARTMENT OF HEALTH AND HUMAN SERVICES

National Institutes of Health

National Institute of Environmental Health Sciences; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Environmental Health Sciences Special Emphasis Panel: Pathology Support Service for the DTT and DIR.

Date: April 15, 2025.

Time: 11:00 a.m. to 2:00 p.m.

Agenda: To review and evaluate contract proposals.

Meeting Format: Virtual Meeting.

Address: National Institute of Environmental Health Sciences, Keystone Building, 530 Davis Drive, Durham, NC 27709.

Contact Person: Murali Ganesan, Ph.D., Scientific Review Officer, Scientific Review Branch, Division of Extramural Research and Training (DERT), National Institute of Environmental Health Sciences, National Institutes of Health, Keystone Building, Room 3097, Research Triangle Park, NC 27713, Phone: (984) 287-4674, Email: murali.ganesan@nih.gov.

Name of Committee: National Institute of Environmental Health Sciences Special Emphasis Panel: NIEHS Support for Scientific Research Conferences.

Date: April 17, 2025.

Time: 12:00 p.m. to 1:30 p.m.

Agenda: To review and evaluate grant applications.

Meeting Format: Virtual Meeting.

Address: National Institute of Environmental Health Sciences, Keystone Building, 530 Davis Drive, Durham, NC 27709.

Contact Person: Leroy Worth, Ph.D. Scientific Review Chief Scientific Review Branch Division of Extramural Research and Training National Institute of Environmental Health Sciences P. O. Box 12233, MD EC-30/Room 3171 Research Triangle Park, NC 27709 (984) 287-3340 email: worth@niehs.nih.gov.

Name of Committee: National Institute of Environmental Health Sciences, Special Emphasis Panel: Quality Assessment Service for the Division of Translational Toxicology and DIR.

Date: April 29, 2025.

Time: 12:00 p.m. to 1:00 p.m.

Agenda: To review and evaluate contract proposals.

Meeting Format: Virtual Meeting.

Address: National Institute of Environmental Health Sciences, Keystone Building, 530 Davis Drive Durham, NC 27709.

Contact Person: Varsha Shukla, Ph.D. Scientific Review Officer Scientific Review Branch Division of Extramural Research and Training National Institute of Environmental Health Sciences Research Triangle Park, NC 27709 (984) 287-3288 email: Varsha.shukla@nih.gov.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: March 14, 2025.
Bruce A. George,
Program Analyst, Office of Federal Advisory Committee Policy.

[FR Doc. 2025-04594 Filed 3-18-25; 8:45 am]

BILLING CODE 4140-01-P